DEPARTMENT OF LABOR

Office of the Secretary

Submission for OMB Review: Comment Request

November 21, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling Ira Mills on 202-693-4122 (this is not a toll-free number) or E-Mail: Mills.Ira@dol.gov, or by accessing http://www.reginfo.gov/public/do/PRAMain.

Comments should be sent to Office of Information and Regulatory Affairs, Attn: OMB Desk Officer for U.S. Department of Labor/Employment and Training Administration (ETA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Reporting and Performance Standards System for Migrant and Seasonal Farmworker Programs under Title I, Section 167 of the Workforce Investment Act (WIA).

OMB Number: 1205-0425.

Frequency: Quarterly.

Affected Public: State, Local, or Tribal Government and Not-for-profit institutions.

Type of Response: Recordkeeping and Reporting.

Number of Respondents: 53.

Annual Responses: 29,871.

Average Response Time: 60.25 hours.

Total Annual Burden Hours: 70,562.

Total Annualized Capital/Startup Costs: 0.

Total Annual Costs (operating/maintaining systems or purchasing services): 0.

Description: This information collection relates to the operation of employment and training programs for Migrants and Seasonal Farmworkers under Title I, section 167 of the Workforce Investment Act (WIA). It also collects the information necessary for the common performance measures system for WIA section 167 grantees, used for program oversight, evaluation, and performance assessment.

Ira L. Mills,
Departmental Clearance Officer/Team Leader.

[FR Doc. E6-20043 Filed 11-27-06; 8:45 am]

BILLING CODE 4510-30-P